DEPARTMENT OF JUSTICE

Antitrust Division

Notice Pursuant to the National Cooperative Research and Production Act of 1993—Undersea Technology Innovation Consortium

Notice is hereby given that, on October 5, 2022, pursuant to section 6(a) of the National Cooperative Research and Production Act of 1993, 15 U.S.C. 4301 et seq. (“the Act”), Undersea Technology Innovation Consortium (“UTIC”) has filed written notifications simultaneously with the Attorney General and the Federal Trade Commission disclosing changes in its membership. The notifications were filed for the purpose of extending the Act's provisions limiting the recovery of antitrust plaintiffs to actual damages under specified circumstances. Specifically, MRV Systems LLC, San Diego, CA; Greystones Consulting Group LLC, Washington, DC; Amentum Services, Inc., Germantown, MD; and Northrop Grumman Systems Corp., Plymouth, MN, have been added as parties to this venture.

Also, VivSoft Technologies LLC, Brambleton, VA; University of South Carolina, Columbia, SC; University of Delaware, Newark, DE; United Aircraft Technologies, Inc., Troy, NY; SeaRobotics Corp., Stuart, FL; R2C Support Services LLC, Huntsville, AL; The Pennsylvania State University, State College, PA; Numurus LLC, Seattle, WA; MaXentric Technologies LLC, Fort Lee, NJ; Marotta Controls, Inc., Montville, NJ; Lyman Morse Boatbuilding, Inc., Thomaston, ME; Leapfrog AI, Inc., Colorado Springs, CO; Inertial Labs, Inc., Paeonian Springs, VA; I/O Marine Systems, Inc., New Orleans, LA; Foster-Miller, Inc., dba QinetiQ North America, Waltham, MA; Cesium GS, Inc., Philadelphia, PA; Btech Acoustics LLC, Barrington, RI; Attollo LLC, Lincoln, RI; and American Defense International, Washington, DC, have withdrawn as parties to this venture.

No other changes have been made in either the membership or planned activity of the group research project. Membership in this group research project remains open, and UTIC intends to file additional written notifications disclosing all changes in membership.

On October 9, 2018, UTIC filed its original notification pursuant to section 6(a) of the Act. The Department of Justice published a notice in the Federal Register pursuant to section 6(b) of the Act on November 2, 2018 (83 FR 55203).

The last notification was filed with the Department on July 7, 2022. A notice was published in the Federal Register pursuant to section 6(b) of the Act on August 1, 2022 (87 FR 47007).

Catherine Reilly,
Counsel for Civil Operations, Antitrust Division.

[FR Doc. 2022-24257 Filed 11-7-22; 8:45 am]

BILLING CODE P